TENNESSEE VALLEY AUTHORITY

Sunshine Act Meeting

Agency Holding the Meeting: Tennessee Valley Authority (Meeting No. 1549).

Time and Date: 9 a.m. (e.s.t.), January 14, 2004; TVA West Tower Auditorium, 400 West Summit Hill Drive, Knoxville, Tennessee.

Status: Open.

Agenda

Approval of minutes of meeting held on November 5, 2003.

New Business

F—Other

F1. Tennessee Valley Authority Strategic Plan

C—Energy

C1. Contract with BOC Gases for industrial gases and cylinders, tube trailers, and bulk storage management.

C2. Contract with Brand Scaffold Services, Inc., for purchase, rental, and erection/teardown of scaffolding.

C3. Supplement to contract with Thermal Engineering International for the upgrade of moisture separators at Browns Ferry Nuclear Plant.

C4. Contract with Scott Specialty Gases, Inc., for protocol gases.

C5. Contracts with Electric Motor Repair & Sales Company; Hibbs ElectroMechanical, Inc.; Jay Electric Company, Inc.; REMCO; and Southwest Electric Company for electric motor repair services.

C6. Contract with Conforma Clad, Inc., for the supply of coated replacement induced draft fan blades for Kingston Fossil Plant.

C7. Delegation of authority to the Executive Vice President, Fossil Power Group, to enter into contracts with Arch Coal Sales Company, Nally and Hamilton Enterprises Inc., and Progress Fuels Corporation for Appalachian Basin coal for John Sevier and Bull Run Fossil Plants.

E—Real Property Transactions

E1. Modification of certain deed restrictions affecting approximately 21 acres of former TVA land on Tellico Reservoir in Monroe County, Tennessee, Tract No. XTELR-6 S.1X, to allow for construction of a public school.

E2. Sale of a noncommercial, nonexclusive permanent easement to A. Robert Johnson for construction and maintenance of private water-use facilities, affecting approximately 0.4 acre of land on Tellico Reservoir in Loudon County, Tennessee, Tract No. XTELR-245RE.

E3. Sale of a noncommercial, nonexclusive permanent easement to Geneva and Raymond Anderson for construction and maintenance of private water-use facilities, affecting approximately 0.04 acre of land on Tellico Reservoir in Monroe County, Tennessee, Tract No. XTELR-246RE.

E4. Grant of a permanent easement to Scottsboro Water, Sewer, and Gas Board for construction of a building to house a potable water tank, affecting approximately 0.03 acre of land on Guntersville Reservoir in Jackson County, Alabama, Tract No. XTGR-175E.

E5. Grant of a permanent easement to the State of Tennessee for a highway improvement project, affecting approximately 0.13 acre of land on Normandy Reservoir in Bedford County, Tennessee, Tract No. XTNRMRD-4H.

E6. Sale at public auction of four separate tracts of land adjacent to the Niles Ferry Industrial Park, consisting of approximately 4.8 acres on Tellico Reservoir in Monroe County, Tennessee, Tract Nos. XTELR-240, -241, -242, and -243.

E7. Sale of a permanent easement to BECS, General Partnership, for a road and utilities access, affecting approximately 0.97 acre of land on Cherokee Reservoir in Grainger County, Tennessee, Tract No. XCK-585E.

F—Other (con't.)

F2. Approval to file condemnation cases to acquire easements and rights-of-way for TVA power transmission line projects affecting the Basin-Toccoa Transmission Line in Fannin County, Georgia; Gallatin Steam Plant-Rockwood No. 2 Tap to North Lebanon Transmission Line in Wilson County, Tennessee, and the Waynesboro-Clifton City Transmission Line in Wayne County, Tennessee.

Information Items

1. Approval of term coal contracts to Arch Coal Sales Company for Powder River Basin coal and Uinta Basin coal to supply various TVA fossil plants.

2. Approval of a term coal contract to Oxbow Mining LLC for Uinta Basin coal to supply various TVA fossil plants.

3. Approval of delegation of authority to the Executive Vice President, Fossil Power Group, to renegotiate coal Contract No. CO0058 with Bowie Resources Limited for supply of coal to various TVA fossil plants.

4. Amendments to the Provisions of the TVA Savings and Deferral Retirement Plan.

5. Approval of Fiscal Year 2004 Winning Performance Team Incentive Plan Scorecards.

6. Approval of the renewal of the Regional Resource Stewardship Council charter for an additional two years.

7. Approval of a supplement to the contract with Electric Power Research Institute, Inc., to extend TVA's membership through December 2004.

8. Approval of a contract with GE Fleet Services for maintenance of TVA's light fleet vehicles.

9. Approval of a public auction sale of the Johnson City Customer Service Center site, consisting of approximately 11 acres in Washington County, Tennessee, Tract No. XJCPSC-4.

10. Approval of a 1-year extension of ferrosilicon industry pricing arrangements.

11. Approval of revised Business Practice 8, Inventions.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: January 7, 2004.
Maureen H. Dunn,
General Counsel and Secretary.

[FR Doc. 04-628 Filed 1-8-04; 10:50 am]

BILLING CODE 8120-88-P